DEPARTMENT OF COMMERCE

National Oceanic and Atmospheric Administration

RIN 0648-XC200

Mid-Atlantic Fishery Management Council; Public Meeting

AGENCY: National Marine Fisheries Service (NMFS), National Oceanic and Atmospheric Administration (NOAA), Commerce.

ACTION: Notice of public meeting.

SUMMARY: The Mid-Atlantic Fishery Management Council will hold a public meeting.

DATES: The meetings will be held on Friday, September 14, 2012 beginning at 10 a.m.

ADDRESSES: The meeting will be held via webinar with a telephone connection option. Details on webinar registration and the connection details are available at: http://www.mafmc.org.

Council address: Mid-Atlantic Fishery Management Council, 800 North State Street, Suite 201, Dover, DE 19901; telephone: (302) 674-2331.

FOR FURTHER INFORMATION CONTACT: Christopher M. Moore, Ph.D., Executive Director, Mid-Atlantic Fishery Management Council, 800 North State Street, Suite 201, Dover, DE 19901; telephone: (302) 674-2331, extension 255.

SUPPLEMENTARY INFORMATION: The purpose of this webinar is to consider whether it is appropriate to recommend any changes to NMFS for the 2012 butterfish acceptable biological catch (ABC) and also whether the catch cap of butterfish for the longfin squid fishery should be altered to be a discard cap on the longfin squid fishery. This meeting would constitute “Meeting 1” of the 2-meeting framework adjustment process for “Framework 7 to the Atlantic Mackerel, Squid, and Butterfish Fishery Management Plan.” The second framework meeting would be at the October 2012 Council Meeting, which will be noticed separately. The meeting will be available via webinar via this link: https://www1.gotomeeting.com/register/602201185. Additional information about accessing the webinar on September 14 is available on the Council's Web site at www.mafmc.org. A public listening station to allow public access to the webinar will also be available at the Council offices located 800 N. State St., Suite 201, Dover, DE 19901.

Special Accommodations

The meeting is physically accessible to people with disabilities. Requests for sign language interpretation or other auxiliary aids should be directed to M. Jan Saunders at the Mid-Atlantic Council Office, (302) 526-5251, at least 5 days prior to the meeting date.

Dated: August 24, 2012.
William D. Chappell,
Acting Deputy Director, Office of Sustainable Fisheries, National Marine Fisheries Service.

[FR Doc. 2012-21321 Filed 8-28-12; 8:45 am]

BILLING CODE 3510-22-P